DEPARTMENT OF COMMERCE

National Oceanic and Atmospheric Administration

RIN 0648-XF782

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet November 14-20, 2017. The Pacific Council meeting will begin on Wednesday, November 15, 2017 at 9 a.m. Pacific Standard Time (PST), reconvening at 8 a.m. each day through Monday, November 20, 2017. All meetings are open to the public, except a closed session will be held from 8 a.m. to 9 a.m., Wednesday, November 15 to address litigation and personnel matters. The Pacific Council will meet as late as necessary each day to complete its scheduled business.

ADDRESSES: Meetings of the Pacific Council and its advisory entities will be held at the Hilton Orange County/Costa Mesa, 3050 Bristol Street, Costa Mesa, CA; telephone: (714) 540-7000.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: 503-820-2280 or 866-806-7204 toll-free; or access the Pacific Council Web site, http://www.pcouncil.org for the current meeting location, proposed agenda, and meeting briefing materials.

SUPPLEMENTARY INFORMATION: The November 14-20, 2017 meeting of the Pacific Council will be streamed live on the internet. The broadcasts begin initially at 9 a.m. PST Wednesday, November 15, 2017 and continue at 8 a.m. daily through Monday, November 20, 2017. Broadcasts end daily at 6 p.m. PST or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the November Webinar ID, 897-986-459, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 862-846-290, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance November 2017 briefing materials and posted on the Pacific Council Web site at www.pcouncil.org no later than October 27, 2017.

A. Call to Order

1. Opening Remarks

2. Roll Call

3. Executive Director's Report

4. Approve Agenda

B. Open Comment Period

1. Comments on Non-Agenda Items

C. Coastal Pelagic Species Management

1. National Marine Fisheries Service Report

2. 2018 Exempted Fishing Permits (EFPs) Notice of Intent

3. Methodology Review Preliminary Topic Selection

D. Salmon Management

1. National Marine Fisheries Service Report

2. Methodology Review—Final Approval

3. Sacramento River Winter Chinook (SRWC) Control Rule, Final Recommendations

4. 2018 Preseason Management Schedule

E. Pacific Halibut Management

1. Final Annual Regulation Changes and 2A Catch Sharing Plan Changes

F. Groundfish Management

1. National Marine Fisheries Service Report

2. Trawl Catch Share Review—Final Report Adoption and Preliminary Range of Alternatives for Follow-On Actions

3. Essential Fish Habitat—Rockfish Conservation Area Amendment, Informational Update

4. Final Stock Assessments and Rebuilding Analyses

5. Mid-Biennium Harvest Specifications Adjustments, Final Action

6. Biennial Harvest Specifications for 2019-2020

7. Endangered Species Act Consultations on Salmon and Seabirds

8. Preliminary Exempted Fishing Permit (EFP) Approval for 2019-2020

9. Biennial Management Measures for 2019-2020

10. Off-Year Science and Stock Assessment Methodology Review—Final Topic Selection

11. Electronic Monitoring—Final Pacific Halibut Discard Mortality Rates, Discards Species Lists, and Third-Party Review

12. Cost Recovery Update

G. Administrative Matters

1. Legislative Matters

2. Fiscal Matters

3. Approval of Council Meeting Record

4. Membership Appointments and Council Operating Procedures

5. Future Council Meeting Agenda and Workload Planning

H. Highly Migratory Species Management

1. National Marine Fisheries Service Report

2. Recommendations for International Management Activities

3. Proposed Deep-Set Buoy Gear Exempted Fishing Permits

I. Enforcement Matters

1. Tri-State Enforcement Report

Advisory Body Agendas

Advisory body agendas will include discussions of relevant issues that are on the Pacific Council agenda for this meeting, and may also include issues that may be relevant to future Council meetings. Proposed advisory body agendas for this meeting will be available on the Pacific Council Web site http://www.pcouncil.org/council-operations/council-meetings/current-briefing-book/ no later than Friday, October 27, 2017.

Schedule of Ancillary Meetings

Day 1—Tuesday, November 14, 2017

Ad Hoc Groundfish Electronic Monitoring (GEM) Policy Advisory Committee and GEM Technical Advisory Committee Joint Meeting—8 a.m.

Groundfish Management Team—8 a.m.

Salmon Advisory Subpanel—8 a.m.

Scientific and Statistical Committee—8 a.m.

Legislative Committee—11 a.m.

Budget Committee—1 p.m.

Groundfish Advisory Subpanel—1 p.m.

Day 2—Wednesday, November 15, 2017

California State Delegation—7 a.m.

Oregon State Delegation—7 a.m.

Washington State Delegation—7 a.m.

Groundfish Advisory Subpanel—8 a.m.

Groundfish Management Team—8 a.m.

Salmon Advisory Subpanel—8 a.m.

Scientific and Statistical Committee—8 a.m.

Enforcement Consultants—3 p.m.

Day 3—Thursday, November 16, 2017

California State Delegation—7 a.m.

Oregon State Delegation—7 a.m.

Washington State Delegation—7 a.m.

Groundfish Advisory Subpanel—8 a.m.

Groundfish Management Team—8 a.m.

Highly Migratory Species Management Team—8 a.m.

Enforcement Consultants—Ad Hoc

Day 4—Friday, November 17, 2017

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad Hoc

Day 5—Saturday, November 18, 2017

California State Delegation—7 a.m.

Oregon State Delegation—7 a.m.

Washington State Delegation—7 a.m.

Groundfish Advisory Subpanel—8 a.m.

Groundfish Management Team—8 a.m.

Enforcement Consultants—Ad Hoc

Day 6—Sunday, November 19, 2017

California State Delegation—7 a.m.

Oregon State Delegation—7 a.m.

Washington State Delegation—7 a.m.

Groundfish Advisory Subpanel—8 a.m.

Groundfish Management Team—8 a.m.

Enforcement Consultants—Ad Hoc

Day 7—Monday, November 20, 2017

California State Delegation—7 a.m.

Oregon State Delegation—7 a.m.

Washington State Delegation—7 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least 10 business days prior to the meeting date.

Dated: October 19, 2017.
Tracey L. Thompson,
Acting Deputy Director, Office of Sustainable Fisheries, National Marine Fisheries Service.

[FR Doc. 2017-23034 Filed 10-23-17; 8:45 am]

BILLING CODE 3510-22-P